FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 1, 2018.

A. Federal Reserve Bank of San Francisco (Gerald C. Tsai, Director, Applications and Enforcement) 101 Market Street, San Francisco, California 94105-1579:

1. Frank Wadsworth Browning, as Trustee of The Browning Family Irrevocable Trust FBO Frank Wadsworth Browning, The Frank W. Browning Trust, and The Patricia A. Browning Trust, Ogden, Utah; Deanna Butler Browning, as Trustee of The Frank W. Browning Trust, Ogden, Utah; Jonathan Wadsworth Browning, as Trustee of The Browning Family Irrevocable Trust FBO Jonathan Wadsworth Browning, The Jonathan W. Browning Trust, The Patricia A. Browning Trust and The Rainee C. Browning Trust, Ogden, Utah; Rainee Clayton Browning, as Trustee of The Jonathan W. Browning Trust and The Rainee C. Browning Trust, Ogden, Utah; Anthony Stuart Browning, as Trustee of The Browning Family Irrevocable Trust FBO Anthony Stuart Browning and The Anthony S. Browning Trust, Kaysville, Utah; Lorilynn Bennion Browning, as Trustee of The Anthony S. Browning Trust, Kaysville, Utah; Patricia Ann Browning, as Trustee of The Browning Family Irrevocable Trust FBO Patricia Ann Browning and The Patricia A. Browning Trust, Ogden, Utah; Carolyn Browning Schumacher, as Trustee of The Browning Family Irrevocable Trust FBO Carolyn Browning Schumacher and The Carolyn B. Schumacher Trust, Saint George, Utah; Cary Bryan Schumacher, as Trustee of The Carolyn B. Schumacher Trust, Saint George, Utah; Benjamin Frank Browning, individually and as Trustee of The Frank W. Browning Trust, Pleasant View, Utah; Bryan Mann Browning, individually and as Trustee of The Jonathan W. Browning Trust, South Ogden, Utah; Jonathan Bennion Browning, individually and as Trustee of The Anthony S. Browning Trust, Kaysville, Utah; Roderick Clayton Browning, individually and as Trustee of The Jonathan W. Browning Trust, Riverdale, Utah; Reese Browning Schumacher, individually and as Trustee of The Carolyn B. Schumacher Trust, Saint George, Utah; Samuel Frank Browning, Kaysville, Utah; Kristen Robinson Browning, as Trustee of The Joshua and Kristen Browning Trust dated 01/03/2014, Ogden, Utah; Spencer Thomas Browning, Ogden, Utah; Joseph Stuart Browning, Kaysville, Utah; Katie Lynn Browning, Ogden, Utah; Isaac Cox Browning, Kaysville, Utah; Natalie Marie Browning, Kaysville, Utah; Richard Clayton Browning, Ogden, Utah; Mary Elizabeth Schumacher, Saint George, Utah, and Andrew David Browning Centerville, Utah; to retain shares of BOU Bancorp, Inc., and thereby retain shares of Bank of Utah, both of Ogden, Utah.

Board of Governors of the Federal Reserve System, July 23, 2018.
Yao-Chin Chao,
Assistant Secretary of the Board.

[FR Doc. 2018-15988 Filed 7-25-18; 8:45 am]

BILLING CODE P